DEPARTMENT OF HOUSING AND URBAN DEVELOPMENT

[Docket No. FR-4557-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Clifford Taffet, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Homeless assistance providers interested in any such property should send a written expression of interest to HHS, addressed to Brian Rooney, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Clifford Taffet at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COE: Ms. Shirley Middleswarth, Army Corps of Engineers, Management & Disposal Division, 441 G Street, Washington, DC 20314-1000; (202) 761-7425; GSA: Mr. Brian K. Polly, Assistant Commissioner, General Services Administration, Office of Property Disposal, 18th and F Streets, NW., Washington, DC 20405; (202) 501-0052; Interior: Ms. Linda Tribby, Department of the Interior, 1849 C Street, NW., Mail Stop 5512-MIB, Washington, DC 20240; (202) 219-0728; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: October 20, 2000.
Fred Karnas, Jr.,
Deputy Assistant Secretary for Special Needs Assistance Programs.

TITLE V, FEDERAL SURPLUS PROPERTY PROGRAM FEDERAL REGISTER REPORT FOR 10/27/00

Suitable/Available Properties

Buildings (by State)

Kentucky

Comfort Station

Carr Creek Lake Proj.

Carr Creek Lake Co: KY 00000-

Landholding Agency: COE

Property Number: 31200030004

Status: Unutilized

Comment: 782 sq. ft., concrete block, off-site use only.

Massachusetts

Storage Bldg.

Knightville Dam Road

Huntington Co: Hampshire MA 01050-

Landholding Agency: COE

Property Number: 31200030005

Status: Unutilized

Comment: 480 sq. ft., needs rehab, off-site use only.

North Dakota

Proj. Office

Lake Ashtabula

2630 114th Ave.

Valley City Co: Barnes ND 58072-9795

Landholding Agency: COE

Property Number: 31200030006

Status: Unutilized

Comment: 1272 sq. ft., needs rehab, off-site use only.

Washington

Hood Park Residence

Ice Harbor Dr.

Burbank Co: Walla Walla WA 99323-

Landholding Agency: COE

Property Number: 31200030008

Status: Unutilized

Comment: 1100 sq. ft. mobile home, off-site use only.

Fishhook Park Residence

Ice Harbor

Prescott Co: Walla Walla WA 99323-

Landholding Agency: COE

Property Number: 31200030009

Status: Unutilized

Comment: mobile home, off-site use only.

Charbonneau Park Residence

Ice Harbor

Burbank Co: Walla Walla WA 99323-

Landholding Agency: COE

Property Number: 31200030010

Status: Unutilized

Comment: 1344 sq. ft. mobile home, off-site use only.

Levey Park Residence

Ice Harbor

Pasco Co: Franklin WA 00000-

Landholding Agency: COE

Property Number: 31200030011

Status: Unutilized

Comment: 924 sq. ft. mobile home, off-site use only.

Land (by State)

Arkansas

7 acres

Army Reserve

Installation 05572

West Memphis Co: Crittenden AR 72301-

Landholding Agency: GSA

Property Number: 54200040003

Status: Surplus

Comment: 7 acres, subject to existing easements; GSA Number: 7-D-AR-0557.

Nebraska

0.34 acres

Offutt AFB

adjacent to 36th St.

Bellevue Co: Sarpy NE 68113-

Landholding Agency: GSA

Property Number: 54200040002

Status: Surplus

Comment: 0.34 acres, subject to existing easements; GSA Number: 7-D-NE-0527.

Suitable/Unavailable Properties

Buildings (by State)

Pennsylvania

Env. Learning Ctr.

Rt. 66/Crooked Creek Dam

Ford City Co: Armstrong PA 16226-

Landholding Agency: COE

Property Number: 31200030007

Status: Underutilized

Comment: 4576 sq. ft., needs rehab.

Unsuitable Properties

Buildings (by State)

Arizona

Bldg. 958

Marine Corps Air Station

Yuma Co: AZ 85369-

Landholding Agency: Navy

Property Number: 77200040001

Status: Excess

Reason: Extensive deterioration.

Bldg. 1216

Marine Corps Air Station

Yuma Co: AZ 85369-

Landholding Agency: Navy

Property Number: 77200040002

Status: Excess

Reason: Extensive deterioration.

Bldg. 676

Marine Corps Air Station

Yuma Co: AZ 85369-

Landholding Agency: Navy

Property Number: 77200040003

Status: Excess

Reason: Extensive deterioration.

California

Bldg. OT33

Old Town Campus

Naval Space & Warfare Systems

San Diego Co: CA 92132-

Landholding Agency: Navy

Property Number: 77200040004

Status: Unutilized

Reason: Extensive deterioration.

Bldg. OT-5

Old Town Campus

Naval Space & Warfare Systems

San Diego Co: CA 92132-

Landholding Agency: Navy

Property Number: 77200040005

Status: Unutilized

Reason: Extensive deterioration.

Florida

Bldg. 114

Naval Air Station

Whiting Field

Milton Co: Santa Rosa FL 32570-

Landholding Agency: Navy

Property Number: 77200040006

Status: Underutilized

Reasons: Within airport runway clear zone; Secured Area.

Bldg. 133

Naval Air Station

Whiting Field

Milton Co: Santa Rosa FL 32570-

Landholding Agency: Navy

Property Number: 77200040007

Status: Underutilized

Reasons: Within airport runway clear zone; Secured Area.

Bldg. 141

Naval Air Station

Whiting Field

Milton Co: Santa Rosa FL 32570-

Landholding Agency: Navy

Property Number: 77200040008

Status: Underutilized

Reasons: Within airport runway clear zone; Secured Area.

16 Bldgs.

Naval Air Station

Whiting Field

Milton Co: Santa Rosa FL 32570-

Location: 142, 151, 153, 156, 164, 170, 171, 176, 178, 180, 182-187

Landholding Agency: Navy

Property Number: 77200040009

Status: Underutilized

Reasons: Within airport runway clear zone; Secured Area.

11 Bldgs.

Naval Air Station

Whiting Field

Milton Co: Santa Rosa FL 32570-

Location: 103, 105, 112, 113, 115-119, 121, 122

Landholding Agency: Navy

Property Number: 77200040010

Status: Underutilized

Reasons: Within airport runway clear zone; Secured Area.

23 Bldgs.

Naval Air Station

Whiting Field

Milton Co: Santa Rosa FL 32570-

Location: 143-150, 152, 154, 155, 157, 158, 160-163, 165, 166, 168, 169, 179, 181

Landholding Agency: Navy

Property Number: 77200040011

Status: Underutilized

Reasons: Within airport runway clear zone; Secured Area.

5 Bldgs.

Naval Air Station

Whiting Field

Milton Co: Santa Rosa FL 32570-

Location: 173, 174, 175, 177, 188

Landholding Agency: Navy

Property Number: 77200040012

Status: Underutilized

Reasons: Within airport runway clear zone; Secured Area.

6 Bldgs.

Naval Air Station

Whiting Field

Milton Co: Santa Rosa FL 32570-

Location: 130-132, 134-136

Landholding Agency: Navy

Property Number: 77200040013

Status: Underutilized

Reasons: Within airport runway clear zone; Secured Area.

Bldgs. 159, 167, 172

Naval Air Station

Whiting Field

Milton Co: Santa Rosa FL 32570-

Landholding Agency: Navy

Property Number: 77200040014

Status: Underutilized

Reasons: Within airport runway clear zone; Secured Area.

5 Bldgs.

Naval Air Station

Whiting Field

Milton Co: Santa Rosa FL 32570-

Location: 124, 127, 138-140

Landholding Agency: Navy

Property Number: 77200040015

Status: Underutilized

Reasons: Within airport runway clear zone; Secured Area.

5 Bldgs.

Naval Air Station

Whiting Field

Milton Co: Santa Rosa FL 32570-

Location: 107, 109, 111, 120, 123

Landholding Agency: Navy

Property Number: 77200040016

Status: Underutilized

Reasons: Within airport runway clear zone; Secured Area.

5 Bldgs.

Naval Air Station

Whiting Field

Milton Co: Santa Rosa FL 32570-

Location: 102, 104, 106, 108, 110

Landholding Agency: Navy

Property Number: 77200040017

Status: Underutilized

Reasons: Within airport runway clear zone; Secured Area.

Bldg. 36

Naval Station

Mayport Co: Duval FL 32228-

Landholding Agency: Navy

Property Number: 77200040021

Status: Unutilized

Reason: Extensive deterioration.

Bldg. 348

Naval Station

Mayport Co: Duval FL 32228-

Landholding Agency: Navy

Property Number: 77200040022

Status: Unutilized

Reason: Extensive deterioration.

Michigan

Stroh Army Reserve Center

17825 Sherwood Ave.

Detroit Co: Wayne MI 0000-

Landholding Agency: GSA

Property Number: 54200040001

Status: Surplus

Reason: Within 2000 ft. of flammable or explosive material; GSA Number: 1-D-MI-798.

Virginia

Bldg. 2185

Marine Corps Base

Quantico Co: VA 00000-

Landholding Agency: Navy

Property Number: 77200040018

Status: Excess

Reason: Extensive deterioration.

Washington

Fire Barn/Rigger & Loft

Grand Coulee Dam

Grand Coulee Co: Grant WA 99133-

Landholding Agency: Interior

Property Number: 61200040001

Status: Unutilized

Reason: Extensive deterioration.

Bldg. 482

Puget Sound Naval Shipyard

Bremerton Co: WA 98314-5000

Landholding Agency: Navy

Property Number: 77200040019

Status: Excess

Reason: Secured Area.

Bldg. 529

Puget Sound Naval Shipyard

Bremerton Co: WA 98314-5000

Landholding Agency: Navy

Property Number: 77200040020

Status: Excess

Reason: Secured Area.

Land (by State)

District of Columbia

Square 62

2216 C St., NW

Washington Co: DC 20037-

Landholding Agency: GSA

Property Number: 54200040004

Status: Excess

Reason: contamination; GSA Number: 4-G-DC-0478.

[FR Doc. 00-27471 Filed 10-26-00; 8:45 am]

BILLING CODE 4210-29-M